DEPARTMENT OF LABOR

Employment and Training Administration

Agency Information Collection Activities; Comment Request; National Agricultural Workers Survey

ACTION: Notice.

SUMMARY: The Department of Labor's (DOL's) Employment and Training Administration (ETA) is soliciting comments concerning a proposed revision for the authority to conduct the information collection request (ICR) titled, “National Agricultural Workers Survey.” This comment request is part of continuing Departmental efforts to reduce paperwork and respondent burden in accordance with the Paperwork Reduction Act of 1995 (PRA).

DATES: Consideration will be given to all written comments received by November 2, 2021.

ADDRESSES: A copy of this ICR with applicable supporting documentation, including a description of the likely respondents, proposed frequency of response, and estimated total burden, may be obtained free by contacting Mr. Daniel Carroll by telephone at 202-693-2795 (this is not a toll-free number), TTY 1-877-889-5627 (this is not a toll-free number), or by email at carroll.daniel.j@dol.gov.

Submit written comments about, or requests for a copy of, this ICR by mail or courier to the U.S. Department of Labor, Employment and Training Administration, Office of Policy Development and Research, Room N-5641, 200 Constitution Ave., NW, Washington, DC 20210; by email: carroll.daniel.j@dol.gov; or by Fax 202-693-2766.

FOR FURTHER INFORMATION CONTACT: Mr. Wayne Gordon by telephone at 202-693-3179 (this is not a toll-free number) or by email at gordon.wayne@dol.gov.

Authority: 44 U.S.C. 3506(c)(2)(A).

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

The National Agricultural Workers Survey (NAWS) is an employment-based, annual survey of the demographic, employment, and health characteristics of hired crop workers, including those who employers hire indirectly through labor contractors. The survey began in 1988. Each year the NAWS contractor interviews between 1,500 and 3,500 crop workers. The contractor interviews crop workers three times per year to account for the seasonality of agricultural employment. ETA uses NAWS data to estimate each state's share of crop workers who are eligible for employment and training services through ETA's National Farmworker Jobs Program. Other Federal agencies similarly use the survey's data to estimate the number and characteristics of crop workers and their dependents who qualify to participate in or receive services from various migrant and seasonal farmworker programs. The United States Department of Agriculture periodically uses NAWS data, along with other data, to estimate changes in agricultural productivity.

ETA is seeking approval to continue the NAWS, with revisions. This request is to add supplemental questions to the survey to gather retrospective information on employment, health, and safety and health practices among crop workers during the Coronavirus pandemic. This collection is on behalf of the Centers for Disease Control and Prevention, National Institute for Occupational Safety and Health, under an inter-agency agreement with ETA. The additional employment information to be collected is:

• Whether the respondent missed any days of work in the last 12 months due to illness or fear of being ill.

• Where applicable, the number of missed workdays in the last 12 months that were related to COVID-19.

• Whether the respondent worked any days in the last 12 months while ill with COVID-19.

• Where applicable, the number of days in the last 12 months the respondent worked while ill with COVID-19.

• Whether the respondent or anyone in the respondent's household received a COVID-19 unemployment benefit in the last 12 months.

The additional health information to be collected is:

• Whether the respondent has been diagnosed with COVID-19.

• Whether COVID-19 prevented the respondent from seeking health care.

• Whether the respondent faced any barriers to being tested for COVID-19.

• Whether the respondent has been vaccinated against COVID-19.

• Where applicable, the reason(s) why the respondent has not been vaccinated.

• Whether the respondent screens positive for depression.

The additional safety and health information to be collected is:

• Where applicable, information on safety and health protocols in employer-provided, rent-free housing.

• Whether there are COVID-19 safety and health protocols in place at the respondent's farm job at the time of the interview.

The Wagner-Peyser Act, as amended (29 U.S.C. 49f(d) and 49l-2(a)) authorizes this information collection.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. To receive consideration, you must provide written comments, which DOL will summarize and include in the request for OMB approval of the final ICR. In order to help ensure appropriate consideration, comments should mention OMB Control No. 1205-0453.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL-ETA.

Type of Review: Revision.

Title of Collection: National Agricultural Workers Survey.

Form: Primary Questionnaire.

OMB Control Number: 1205-0453.

Affected Public: Individuals and Households, Private Sector.

Estimated Number of Respondents: 4,476.

Frequency: Annual.

Total Estimated Annual Responses: 4,476.

Estimated Average Time per Response: 45 minutes.

Estimated Total Annual Burden Hours: 1,484 hours.

Total Estimated Annual Other Cost Burden: $0.

Lenita Jacobs-Simmons,
Acting Assistant Secretary for Employment and Training, Labor.

[FR Doc. 2021-19068 Filed 9-2-21; 8:45 am]

BILLING CODE 4510-FM-P